DEPARTMENT OF ENERGY

Federal Energy Regulatory Commission

Combined Notice of Filings #1

Take notice that the Commission received the following electric rate filings:

Docket Numbers: ER10-1107-002.

Applicants: Pacific Gas and Electric Company.

Description: Second Supplement to December 31, 2012 Pacific Gas and Electric Company updated market power analysis for the Southwest Region under ER10-1107.

Filed Date: 11/25/13.

Accession Number: 20131125-5112.

Comments Due: 5 p.m. ET 1/3/14.

Docket Numbers: ER13-2453-001.

Applicants: Public Service Company of Colorado.

Description: Public Service Company of Colorado submits tariff filing per 35: 2013-12-13-Amnd to Order No. 764 Filing to be effective 1/13/2014.

Filed Date: 12/13/13.

Accession Number: 20131213-5200.

Comments Due: 5 p.m. ET 1/3/14.

Docket Numbers: ER14-63-001.

Applicants: ISO New England Inc., Bangor Hydro Electric Company.

Description: Amended Oakfield Wind Farm LGIA Compliance Filing to be effective 10/11/2013.

Filed Date: 12/12/13.

Accession Number: 20131212-5100.

Comments Due: 5 p.m. ET 1/2/14.

Docket Numbers: ER14-102-001.

Applicants: Midcontinent Independent System Operator, Inc., Dairyland Power Cooperative.

Description: Midcontinent Independent System Operator, Inc. submits tariff filing per 35.17(b): 12-13-2013 DCP Attachment O Amendment Filing to be effective 1/1/2014.

Filed Date: 12/13/13.

Accession Number: 20131213-5082.

Comments Due: 5 p.m. ET 12/23/13.

Docket Numbers: ER14-195-002.

Applicants: Duke Energy Florida, Inc.

Description: Duke Energy Florida, Inc. submits tariff filing per 35.17(b): CBR T1 SA No. 1 Filing to be effective 12/27/2013.

Filed Date: 12/13/13.

Accession Number: 20131213-5089.

Comments Due: 5 p.m. ET 12/20/13.

Docket Numbers: ER14-256-001.

Applicants: Midcontinent Independent System Operator, Inc.

Description: Midcontinent Independent System Operator, Inc. submits tariff filing per 35.17(b): 12-13-2013 SA 2541 Dynegy-Ameren J232 GIA Amended Filing to be effective 11/2/2013.

Filed Date: 12/13/13.

Accession Number: 20131213-5152.

Comments Due: 5 p.m. ET 1/3/14.

Docket Numbers: ER14-603-000.

Applicants: Midcontinent Independent System Operator, Inc.

Description: 12-12-2013 SA 1519 G132 Unexecuted Amended GIA to be effective 12/13/2013.

Filed Date: 12/12/13.

Accession Number: 20131212-5088.

Comments Due: 5 p.m. ET 1/2/14.

Docket Numbers: ER14-604-000.

Applicants: Smoky Mountain Transmission LLC.

Description: Compliance part II to be effective 2/10/2014.

Filed Date: 12/12/13.

Accession Number: 20131212-5108.

Comments Due: 5 p.m. ET 1/2/14.

Docket Numbers: ER14-605-000.

Applicants: Alabama Electric Marketing, LLC.

Description: Compliance Filing to be effective 12/13/2013.

Filed Date: 12/12/13.

Accession Number: 20131212-5109.

Comments Due: 5 p.m. ET 1/2/14.

Docket Numbers: ER14-606-000.

Applicants: California Electric Marketing, LLC.

Description: Compliance Filing to be effective 12/13/2013.

Filed Date: 12/12/13.

Accession Number: 20131212-5110.

Comments Due: 5 p.m. ET 1/2/14.

Docket Numbers: ER14-607-000.

Applicants: TPF Generation Holdings, LLC.

Description: Compliance Filing to be effective 12/13/2013.

Filed Date: 12/12/13.

Accession Number: 20131212-5113.

Comments Due: 5 p.m. ET 1/2/14.

Docket Numbers: ER14-608-000.

Applicants: High Desert Power Project, LLC.

Description: Compliance Filing to be effective 12/13/2013.

Filed Date: 12/12/13.

Accession Number: 20131212-5117.

Comments Due: 5 p.m. ET 1/2/14.

Docket Numbers: ER14-609-000.

Applicants: New Mexico Electric Marketing, LLC.

Description: Compliance Filing to be effective 12/13/2013.

Filed Date: 12/12/13.

Accession Number: 20131212-5118.

Comments Due: 5 p.m. ET 1/2/14.

Docket Numbers: ER14-610-000.

Applicants: Tenaska Power Management, LLC.

Description: Compliance Filing to be effective 12/13/2013.

Filed Date: 12/12/13.

Accession Number: 20131212-5119.

Comments Due: 5 p.m. ET 1/2/14.

Docket Numbers: ER14-611-000.

Applicants: Texas Electric Marketing, LLC.

Description: Compliance Filing to be effective 12/13/2013.

Filed Date: 12/12/13.

Accession Number: 20131212-5121.

Comments Due: 5 p.m. ET 1/2/14.

Docket Numbers: ER14-612-000.

Applicants: Skylar Energy LP.

Description: Skylar Rate Tariff to be effective 1/15/2014.

Filed Date: 12/12/13.

Accession Number: 20131212-5129.

Comments Due: 5 p.m. ET 1/2/14.

Docket Numbers: ER14-613-000.

Applicants: Flat Rock Windpower LLC.

Description: First Revised MBR Tariff to be effective 12/13/2013.

Filed Date: 12/12/13.

Accession Number: 20131212-5140.

Comments Due: 5 p.m. ET 1/2/14.

Docket Numbers: ER14-614-000.

Applicants: Flat Rock Windpower II LLC.

Description: First Revised MBR Tariff to be effective 12/13/2013.

Filed Date: 12/12/13.

Accession Number: 20131212-5141.

Comments Due: 5 p.m. ET 1/2/14.

Docket Numbers: ER14-615-000.

Applicants: Sunbury Generation LP.

Description: Request for a limited waiver and for expedited action of Sunbury Generation LP under ER14-615.

Filed Date: 12/12/13.

Accession Number: 20131212-5168.

Comments Due: 5 p.m. ET 12/23/13.

Docket Numbers: ER14-616-000.

Applicants: ISO New England Inc.

Description: ISO New England Inc. submits tariff filing per 35.13(a)(2)(iii: Forward Capacity Market Offer Review Trigger Price Provisions to be effective 2/11/2014.

Filed Date: 12/13/13.

Accession Number: 20131213-5053.

Comments Due: 5 p.m. ET 1/3/14.

Docket Numbers: ER14-617-000.

Applicants: Southwest Power Pool, Inc.

Description: Southwest Power Pool, Inc. submits tariff filing per 35.13(a)(2)(iii: 2460R1 Tulsa LFG, LLC GIA to be effective 12/12/2013.

Filed Date: 12/13/13.

Accession Number: 20131213-5055.

Comments Due: 5 p.m. ET 1/3/14.

Docket Numbers: ER14-618-000.

Applicants: Puget Sound Energy, Inc.

Description: Puget Sound Energy, Inc. submits tariff filing per 35: Order No. 784 Compliance Filing to be effective 12/27/2013.

Filed Date: 12/13/13.

Accession Number: 20131213-5056.

Comments Due: 5 p.m. ET 1/3/14.

Docket Numbers: ER14-619-000.

Applicants: PacifiCorp.

Description: PacifiCorp submits tariff filing per 35.13(a)(2)(iii: Foote Creek III Wholesale Distribution Service Agreement to be effective 3/1/2014.

Filed Date: 12/13/13.

Accession Number: 20131213-5136.

Comments Due: 5 p.m. ET 1/3/14.

Docket Numbers: ER14-620-000.

Applicants: Southwest Power Pool, Inc.

Description: Southwest Power Pool, Inc. submits tariff filing per 35.13(a)(2)(iii: KCPL and GMO Formula Rate Template Change to be effective 1/1/2014.

Filed Date: 12/13/13

Accession Number: 20131213-5150

Comments Due: 5 p.m. ET 1/3/14

Docket Numbers: ER14-621-000.

Applicants: Public Service Electric and Gas Company, PJM Interconnection, L.L.C.

Description: Public Service Electric and Gas Company submits tariff filing per 35.13(a)(2)(iii: PSE&G revises PJM OATT Att H-10A re Decrease to PBOP Expense in Formula Rate to be effective 1/1/2014.

Filed Date: 12/13/13.

Accession Number: 20131213-5169.

Comments Due: 5 p.m. ET 1/3/14.

Docket Numbers: ER14-622-000.

Applicants: Cogen Technologies Linden Venture, L.P.

Description: Cogen Technologies Linden Venture, L.P. submits tariff filing per 35.13(a)(2)(iii: Amended Shared Facilities Agreement to be effective 2/4/2014.

Filed Date: 12/13/13.

Accession Number: 20131213-5191.

Comments Due: 5 p.m. ET 1/3/14.

Docket Numbers: ER14-623-000.

Applicants: PJM Interconnection, L.L.C.

Description: PJM Interconnection, L.L.C. submits tariff filing per 35.13(a)(2)(iii: Revisions to the PJM OATT & OA re Coordinated Transaction Scheduling to be effective 12/31/9998.

Filed Date: 12/13/13.

Accession Number: 20131213-5199.

Comments Due: 5 p.m. ET 1/3/14.

Docket Numbers: ES14-18-000.

Applicants: Michigan Electric Transmission Company, LLC.

Description: Application of Michigan Electric Transmission Company, LLC under Section 204 of the Federal Power Act and Part 34 of the Commission's Regulations.

Filed Date: 12/13/13.

Accession Number: 20131213-5124.

Comments Due: 5 p.m. ET 1/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2013.
Nathaniel J. Davis, Sr.,
Deputy Secretary.

[FR Doc. 2013-30316 Filed 12-19-13; 8:45 am]

BILLING CODE 6717-01-P